COMMISSION ON CIVIL RIGHTS

Agenda and Notice of Planning Meeting of the Wyoming Advisory Committee

AGENCY: Commission on Civil Rights.

ACTION: Announcement of meeting.

SUMMARY: Notice is hereby given, pursuant to the provisions of the rules and regulations of the U.S. Commission on Civil Rights (Commission), and the Federal Advisory Committee Act (FACA), that a meeting of the Wyoming Advisory Committee to the Commission will convene 10:00 a.m. (MST) on Friday, February 12, 2016, in the Cottonwood Room of the Wind River Hotel & Casino, 10269 State Highway 789, Riverton, WY 82501. The purpose of the meeting is to discuss civil rights issues affecting Native Americans in the state and other issues. The state advisory committee will review these issues in preparation to identify a topic for study.

The meeting is open to the public. In addition to in person attendance, this meeting is available to the public through the following toll-free call-in number: 1-888-572-7033, conference ID: 1243365. Any interested member of the public may call this number and listen to the meeting. An open comment period will be provided to allow members of the public to make a statement as time allows. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number.

Persons with hearing impairments may also follow the discussion by first calling the Federal Relay Service (FRS) at 1-800-977-8339 and provide the FRS operator with the Conference Call Toll-Free Number: 1-888-572-7033, Conference ID: 1243365.

Persons who plan to attend the meeting and require other accommodations, please contact Evelyn Bohor at ebohor@usccr.gov at the Rocky Mountain Regional Office at least ten (10) working days before the scheduled date of the meeting.

Members of the public are invited to submit written comments; the comments must be received in the regional office by Monday, March 14, 2016. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

Records and documents discussed during the meeting will be available for public viewing as they become available at https://database.faca.gov/committee/meetings.aspx?cid=281 and clicking on the “Meeting Details” and “Documents” links. Records generated from this meeting may also be inspected and reproduced at the Eastern Regional Office, as they become available, both before and after the meeting. Persons interested in the work of this advisory committee are advised to go to the Commission's Web site, www.usccr.gov, or to contact the Rocky Mountain Regional Office at the above phone number, email or street address.

Agenda

• Welcome and Introductions

Sleeter Dover, Chair, Wyoming Advisory Committee

Malee V. Craft, Designated Federal Official

• Discussion of Civil Rights Issues

• Other Issues

• Adjourn

DATES: Friday, February 12, 2016 (MST).

ADDRESSES: Cottonwood Room of the Wind River Hotel & Casino, 10269 State Highway 789, Riverton, WY 82501.

Public Call Information

Dial: 1-888-572-7033

Conference ID: 1243365

FOR FURTHER INFORMATION CONTACT: Malee V. Craft at mcraft@usccr.gov, or 303-866-1040.

Dated: January 22, 2016.
David Mussatt,
Chief, Regional Programs Unit.

[FR Doc. 2016-01674 Filed 1-27-16; 8:45 am]

BILLING CODE 6335-01-P